DEPARTMENT OF TRANSPORTATION

Federal Aviation Administration

14 CFR Part 73

[Docket No. FAA-2025-0273; Airspace Docket No. 23-ASO-43]

RIN 2120-AA66

Establishment of Restricted Areas R-5305A, R-5305B, and R-5305C; Camp Lejeune, NC; and Restricted Areas R-5307A, R-5307B, and R-5307C; Cherry Point, NC

AGENCY: Federal Aviation Administration (FAA), DOT.

ACTION: Notice of proposed rulemaking (NPRM).

SUMMARY: This action proposes to establish restricted areas R-5305A, R-5305B, and R-5305C; Camp Lejeune, NC; and restricted areas R-5307A, R-5307B, and R-5307C; Cherry Point, NC. The purpose of this proposal is to create additional restricted area airspace to connect restricted area R-5003, R-5004, and R-5306 complexes to contain hazardous activities such as weapon deployment, non-eye safe lasers, and artillery within larger contiguous restricted area airspace that is required to realistically simulate essential training mission tasks.

DATES: Comments must be received on or before May 5, 2025.

ADDRESSES: Send comments identified by FAA Docket No. FAA-2025-0273 and Airspace Docket No. 23-ASO-43 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it establishes restricted area airspace at Camp Lejeune, NC and Cherry Point, NC, to enhance aviation safety and accommodate essential United States (U.S.) Marine Corps training activities.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address, phone number, and hours of operation). An informal docket may also be examined during normal business hours at the office of the Eastern Service Center, Federal Aviation Administration, Room 210, 1701 Columbia Avenue, College Park, GA 30337.

Background

Marine Corps Installations East (MCIEAST), Marine Corps Base (MCB), Camp Lejeune, NC, submitted a proposal to the FAA to establish restricted areas R-5305A, R-5305B, and R-5305C; Camp Lejeune, NC; and restricted areas R-5307A, R-5307B, and R-5307C; Cherry Point, NC. Special use airspace in eastern North Carolina was designed as small fragmented restricted area airspace to support second and third generation aircraft. The current airspace structure near Camp Lejeune, NC and Marine Corps Air Station (MCAS) Cherry Point, NC cannot fully support U.S. Marine Corps (USMC) training and readiness requirements for fourth and fifth generation aircraft, such as the F-18 and F-35, as well as unmanned aircraft systems (UAS) that need large, contiguous restricted area airspace to contain the hazardous activities required to accommodate the USMC's training requirements.

USMC aircraft use advanced sensor systems, including lasers, to provide data to command-and-control agencies to enable intelligence collection and targeting, as well as provide targeting data for its own weapon systems. The F-35's primary air-to-ground weapon system, the GBU-53 Small Diameter Bomb II, uses lasers from both the aircraft and the weapon system itself, and is capable of stand-off ranges in excess of 40 nautical miles (NM). The lateral constraints of the existing restricted areas surrounding Cherry Point, NC and Camp Lejeune, NC aerial target sites will not allow for the use of lasers to simulate employing that weapon system from realistic ranges.

Specifically, the existing restricted area R-5003, R-5004, and R-5306 complexes are in proximity, but do not share common boundaries and does not provide the contiguous restricted area airspace required to contain these hazardous, non-eye safe laser guided weapons systems. The proposed establishment of restricted area R-5005 and R-5007 complexes would laterally connect with R-5003, R-5004, and R-5306 complexes to create the large contiguous restricted area airspace that is required to realistically simulate using their weapons systems which is part of their essential training mission tasks.

The proposed restricted areas R-5305A, R-5305B, and R-5305C would also provide for additional surface target availability and increase the time and locations of gun positions for field artillery. Field artillery systems are surface-to-surface weapons, 105 millimeter (mm) and 155 mm shells, that would be fired from the surface up to but not including flight level (FL) 180.

In conjunction with existing restricted areas R-5003, R-5004, and R-5306, the proposed restricted areas R-5305A, R-5305B, R-5305C, R-5307A, R-5307B, and R-5307C would provide the restricted area airspace needed to contain these hazardous activities, conduct realistic training, and properly execute tactics, techniques, and procedures for mission essential tasks required to ensure combat readiness.

National Airspace System Impacts

Very High Frequency Omnidirectional Range (VOR) Federal Airway V-139 would be impacted by proposed restricted areas R-5305A, R-5305B, and R-5305C when they are active with military aircraft. During periods when restricted areas R-5305A, R-5305B, and R-5305C are active with military aircraft, VOR Federal Airway V-139 would be unavailable between the Wilmington, NC (ILM), VOR/Tactical Air Navigation (VORTAC) and the New Bern, NC (EWN), VOR/Distance Measuring Equipment (VOR/DME). Aircraft operating under instrument flight rules (IFR) may continue to use nearby VOR Federal Airways V-1 and V-56. Additionally, pilots operating Area Navigation (RNAV)-equipped aircraft may navigate via point-to-point navigation using fixes in the local area, or request and receive Air Traffic Control (ATC) radar vectors around active restricted area airspace.

The Coastal Carolina Regional airport, NC (EWN); Michael J. Smith Field Airport, NC (MRH); and Sky Manor Airport, NC (N22) are adjacent to the proposed restricted areas airspace and aircraft operating to and from these airports may be impacted by the proposed restricted areas when they would be active. Aircraft operating under IFR may be impacted as portions of the arrival and departure procedures to these airports would be inside of the proposed restricted area airspace. During periods when the proposed restricted areas would be active MCAS Cherry Point Combined Enroute Radar Approach Control (CERAP) has committed to deconflicting operations in the restricted area with aircraft operating under IFR to allow arrivals and departures from these airports.

Aircraft operating under visual flight rules (VFR) may be affected as the proposed restricted areas would affect operations at the Coastal Carolina Regional Airport, Michael J. Smith Field Airport, and Sky Manor Airport. There would be less airspace southeast of Coastal Carolina Regional Airport and Sky Manor Airport, and less airspace northwest of Michael J. Smith Field Airport for aircraft to maneuver as they arrive or depart each airport. When the proposed restricted areas R-5307A and R-5307B are active, the airspace at and above 2,500 feet mean sea level (MSL) would be unavailable for aircraft to be able to access Michael J. Smith Field and the North Carolina coastline. To mitigate the impact that restricted areas R-5307A and R-5307B would cause, these areas are limited to intermittent activation by Notice to Airmen (NOTAM). Restricted area R-5307A is expected to be activated two hours per day, 25 days a year; and restricted area R-5307B is expected to be activated four hours per day, 25 days per year. Additionally, MCAS Cherry Point CERAP has committed to providing flight following to aircraft operating under VFR, and as needed, would deconflict operations in the restricted area to provide aircraft a path for non-participating aircraft to fly through the restricted area airspace to ensure continued access to the coastline and to Michael J. Smith Field Airport.

In accordance with FAA policy in FAA Order JO 7400.2, restricted areas R-5305A, R-5305B, R-5305C, R-5307A, R-5307B, and R-5307C would be joint-use; meaning that the restricted areas would be returned to the controlling agency, MCAS Cherry Point CERAP on a real-time basis when not needed by the using agency for its designated purpose. This would be accomplished through a range control facility acting on behalf of the using agency. All participating users of the restricted area would be required to establish and maintain radio communications with the range control facility, allowing for real-time joint use activation, deactivation, and prompt recall of each airspace area by the controlling agency when necessary. If established via a final rule, the FAA would require that provisions be made in a letter of agreement to allow the controlling agency to recall the airspace when necessary to accommodate traffic flows in the event of unusual air traffic activity, severe weather or turbulence, and emergency aircraft.

MCAS Cherry Point CERAP will provide real-time special use airspace status information, allow transitions through the area by nonparticipating aircraft, and provide traffic advisories to nonparticipating pilots that request such services. MCAS Cherry Point CERAP agrees to advertise such service; “Contact Cherry Point Approach on 119.75 or 360.775 for R-5307A/B status” that would be depicted on aeronautical charts. Based on these considerations, the FAA expects minimal impact on aircraft operating under IFR and VFR transiting the area.

The Proposal

The FAA is proposing an amendment to 14 CFR part 73 to establish restricted areas R-5305A, R-5305B, and R-5305C; Camp Lejeune, NC; and restricted areas R-5307A, R-5307B, and R-5307C; Cherry Point, NC. This additional restricted area airspace, combined with the existing restricted area R-5003, R-5004, and R-5306 complexes, would support USMC training and readiness requirements and would provide the contiguous restricted area airspace required to contain hazardous activities such as weapon deployment, non-eye safe lasers, and artillery necessary to conduct complex training scenarios required to realistically train to accomplish mission essential tasks.

Restricted areas R-5305A, R-5305B, and R-5305C would share the same lateral boundaries. Restricted area R-5305A would be from the surface to but not including 7,000 feet MSL, excluding the airspace from the surface to 200 feet above ground level (AGL) within 200 feet either side of U.S. Highway 17. Published times of use would be Monday through Friday, 0600 to 2359 local time, other times of use would be published in a NOTAM at least 24 hours in advance. Restricted area R-5305A would be expected to be activated 8 hours per day, 150 days per year. Approximately 25 percent of the activation time would be during the hours of darkness, and approximately 5 percent of all activation would include fixed-wing operations.

Restricted area R-5305B would be from 7,000 feet MSL to but not including 10,000 feet MSL. A NOTAM would publish the intermittent times of use of restricted area R-5305B. Restricted area R-5305B is expected to be activated 4 hours per day, 30 days per year. Approximately 25 percent of the activation time would be during the hours of darkness, and approximately 50 percent of the activation time would include fixed-wing operations.

Restricted area R-5305C would be from 10,000 feet MSL to but not including FL 180. A NOTAM would publish intermittent times of use of restricted area R-5305C. It is expected to be activated 4 hours per day, 30 days per year. Approximately 25 percent of the activation time would be during the hours of darkness, and approximately 50 percent of the activation time would include fixed-wing operations.

Restricted areas R-5307A, R-5307B, and R-5307C would overlay each other, and would replace alert area A-530. Restricted areas R-5307B and R-5307C would share the same lateral boundaries.

Restricted area R-5307A would be from 2,500 feet AGL to but not including 10,000 feet MSL. A NOTAM would publish intermittent times of use of restricted area R-5307A. Restricted area R-5307A is expected to be activated 2 hours per day, 25 days per year. Approximately 25 percent of all activation time would be during the hours of darkness.

Restricted area R-5307B would be from 10,000 feet MSL to but not including FL 180. A NOTAM would publish intermittent times of use of restricted area R-5307A. Restricted area R-5307B is expected to be activated 4 hours per day, 25 days per year. Approximately 25 percent of all activation time would be during the hours of darkness.

Restricted area R-5307C would be from FL 180 to FL 290. Published times of use would be Monday through Friday, 0800-2359 local, other times by NOTAM. Restricted area R-5307C is expected to be activated 4 hours per day, 100 days per year. Approximately 25 percent of all activation time would be during the hours of darkness.

The full descriptions of the above restricted areas are set forth below in the proposed amendments to part 73.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f); 106(g); 40103, 40113, 40120; E.O. 10854, 24 FR 9565, 3 CFR, 1959-1963 Comp., p. 389.

§ 73.53 North Carolina [Amended]

2. Section 73.53 is amended as follows:

* * * * *

R-5305A Camp Lejeune, NC [New]

Boundaries. Beginning at lat. 34°39′16″ N, long. 077°28′31″ W; to lat. 34°41′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. Surface to but not including 7,000 feet MSL, excluding the airspace from the surface to 200 feet AGL within 200 feet either side of U.S. Highway 17.

Time of designation. 0600-2359 local time, Monday-Friday; other times by NOTAM published at least 24 hours in advance.

Controlling agency. USMC, MCAS Cherry Point CERAP.

Using agency. USMC, Commanding General, Marine Corps Installations East-Marine Corps Base Camp Lejeune, NC.

R-5305B Camp Lejeune, NC [New]

Boundaries. Beginning at lat. 34°39′16″ N, long. 077°28′31″ W; to lat. 34°41′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. 7,000 feet MSL to but not including 10,000 feet MSL.

Time of designation. Intermittent by NOTAM.

Controlling agency. USMC, MCAS Cherry Point CERAP.

Using agency. USMC, Commanding General, Marine Corps Installations East-Marine Corps Base Camp Lejeune, NC.

R-5305C Camp Lejeune, NC [New]

Boundaries. Beginning at lat. 34°39′16″ N, long. 077°28′31″ W; to lat. 34°41′00″ N, long. 077°24′59″ W; to lat. 34°40′21″ N, long. 077°22′11″ W; to lat. 34°38′13″ N, long. 077°25′59″ W; to lat. 34°36′06″ N, long. 077°26′07″ W; to lat. 34°35′04″ N, long. 077°23′43″ W; to lat. 34°33′57″ N, long. 077°25′24″ W; to lat. 34°34′27″ N, long. 077°26′16″ W; to lat. 34°33′47″ N, long. 077°27′02″ W; to lat. 34°35′14″ N, long. 077°27′45″ W; to lat. 34°35′22″ N, long. 077°28′46″ W; to lat. 34°35′22″ N, long. 077°28′48″ W; to lat. 34°35′22″ N, long. 077°28′51″ W; to lat. 34°35′23″ N, long. 077°29′24″ W; to lat. 34°36′42″ N, long. 077°29′03″ W; to lat. 34°36′51″ N, long. 077°29′01″ W; to lat. 34°36′53″ N, long. 077°29′01″ W; to lat. 34°38′22″ N, long. 077°28′42″ W; to the point of beginning.

Designated altitudes. 10,000 feet MSL to but not including FL 180.

Time of designation. Intermittent by NOTAM.

Controlling agency. FAA, Washington ARTCC.

Using agency. USMC, Commanding General, Marine Corps Installations East-Marine Corps Base Camp Lejeune, NC.

* * * * *

R-5307A Cherry Point, NC [New]

Boundaries. Beginning at lat. 35°08′01″ N, long. 076°51′19″ W; to lat. 34°46′01″ N, long. 076°29′59″ W; to lat. 34°45′11″ N, long. 076°40′29″ W; to lat. 34°42′01″ N, long. 076°54′44″ W; to lat. 34°50′50″ N, long. 077°05′16″ W; to lat. 34°59′18″ N, long. 077°00′08″ W; to the point of beginning.

Designated altitudes. 2,500 feet AGL to but not including 10,000 feet MSL.

Time of designation. Intermittent by NOTAM.

Controlling agency. USMC, MCAS Cherry Point CERAP.

Using agency. USMC, Commanding Officer, MCAS Cherry Point, NC.

R-5307B Cherry Point, NC [New]

Boundaries. Beginning at lat. 35°08′01″ N, long. 076°51′19″ W; to lat. 34°46′01″ N, long. 076°29′59″ W; to lat. 34°40′17″ N, long. 076°24′46″ W; thence southwest 3 NM from and parallel to the shoreline to lat. 34°37′36″ N, long. 076°56′19″ W; to lat. 34°41′51″ N, long. 076°56′19″ W; to lat. 34°42′01″ N, long. 076°54′44″ W; to lat. 34°50′50″ N, long. 077°05′16″ W; to lat. 34°59′18″ N, long. 077°00′08″ W; to the point of beginning.

Designated altitudes. 10,000 feet MSL to but not including FL 180.

Time of designation. Intermittent by NOTAM.

Controlling agency. USMC, MCAS Cherry Point CERAP.

Using agency. USMC, Commanding Officer, MCAS Cherry Point, NC.

R-5307C Cherry Point, NC [New]

Boundaries. Beginning at lat. 35°08′01″ N, long. 076°51′19″ W; to lat. 34°46′01″ N, long. 076°29′59″ W; to lat. 34°40′17″ N, long. 076°24′46″ W; thence southwest 3 NM from and parallel to the shoreline to lat. 34°37′36″ N, long. 076°56′19″ W; to lat. 34°41′51″ N, long. 076°56′19″ W; to lat. 34°42′01″ N, long. 076°54′44″ W; to lat. 34°50′50″ N, long. 077°05′16″ W; to lat. 34°59′18″ N, long. 077°00′08″ W; to the point of beginning.

Designated altitudes. FL 180 to FL 290.

Time of designation. 0800-2359 local time, Monday-Friday; other times by NOTAM.

Controlling agency. FAA, Washington ARTCC.

Using agency. USMC, Commanding Officer, MCAS Cherry Point, NC.

* * * * *

Issued in Washington, DC, on March 12, 2025.
Brian Eric Konie,
Manager (A), Rules and Regulations Group.

[FR Doc. 2025-04392 Filed 3-19-25; 8:45 am]

BILLING CODE 4910-13-P